DEPARTMENT OF ENERGY

Federal Energy Regulatory Commission

[Docket No. RP03-539-000]

MIGC, Inc.; Notice of Tariff Filing

July 8, 2003.

Take notice that on July 1, 2003, MIGC, Inc. (MIGC) tendered for filing as part of its FERC Gas Tariff, First Revised Volume No.1, the following tariff sheets, to become effective August 1, 2003.

Sixth Revised Sheet No. 50.

Fifth Revised Sheet No. 74.

Fifth Revised Sheet No. 90A.

MIGC asserts that the purpose of this filing is to update MIGC's tariff to combine revisions which were previously approved in separate proceedings. MIGC states that the currently effective tariff sheets Fifth Revised Sheet No. 50, Fourth Revised Sheet No. 74 and Fourth Revised Sheet No. 90A were previously approved in Docket No. RP03-297. MIGC states that the revisions to these sheets proposed herein, were previously approved in Docket No. RP02-409. When the currently effective tariff sheets were filed in Docket No. RP03-297, the revisions proposed and subsequently approved in Docket No. RP02-409 were not included. Therefore, the instant filing is necessary to combine the approved revisions from Docket No. RP02-409 into the currently effective tariffs. The instant application does not represent any new changes to MIGC's tariffs.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 14, 2003.

Magalie R. Salas,
Secretary.

[FR Doc. 03-17685 Filed 7-11-03; 8:45 am]

BILLING CODE 6717-01-P